NATIONAL ARCHIVES AND RECORDS ADMINISTRATION

[NARA-2022-055]

Office of Government Information Services Annual Meeting

AGENCY: Office of Government Information Services (OGIS), National Archives and Records Administration (NARA).

ACTION: Notice of annual open meeting.

SUMMARY: We are announcing OGIS's annual meeting, open to the public in accordance with the Freedom of Information Act (FOIA). The purpose of the meeting is to discuss OGIS's reviews and reports and allow interested people to appear and present oral or written statements.

DATES: The meeting will be on Wednesday, June 29, 2022, from 10:00 a.m. to 12:00 p.m. EDT. You must register by 11:59 p.m. EDT Monday, June 27, 2022, to attend the meeting.

ADDRESSES: This meeting will be a virtual meeting. We will send instructions on how to access it to those who register according to the instructions below.

FOR FURTHER INFORMATION CONTACT: Martha Murphy by email at ogisopenmeeting@nara.gov or by telephone at 202.741.5770.

SUPPLEMENTARY INFORMATION: This meeting is open to the public in accordance with FOIA provisions at 5 U.S.C. 552(h)(6). We will post all meeting materials at https://www.archives.gov/ogis/outreach-events/annual-open-meeting. OGIS's 2022 Report for Fiscal Year 2021 was posted on May 26, 2022, at https://www.archives.gov/files/ogis/reports/ogis-2022-annual-report-final.pdf. The report summarizes OGIS's work, in accordance with FOIA provisions at 5 U.S.C. 552(h)(4)(A). We will also hold two panel discussions—the first panel will discuss Estimated Dates of Completion (EDCs), and the second panel will discuss the Final Report and Recommendations of the 2020-2022 term of the FOIA Advisory Committee. You may submit extensive written statements or comments for OGIS to consider by emailing ogisopenmeeting@nara.gov. You may also submit written comments during the meeting either via Webex or NARA YouTube chat functions. We will not address individual OGIS cases or specific FOIA requests. If you are interested in presenting oral statements at the meeting you must register in advance via the Eventbrite link below. Each individual will be limited to three minutes each.

Procedures: This virtual meeting is open to the public. You must register in advance through the Eventbrite link https://ogis-annual-open-mtg.eventbrite.com, if you wish to attend, and you must include an email address so that we can send you access information. To request accommodations (e.g., a transcript), email ogis@nara.gov or call 202.741.5770. Members of the media who wish to register, those who are unable to register online, and those who require special accommodations, should contact Martha Murphy (contact information listed above).

Alina M. Semo,
Office of Government Information Services Director.

[FR Doc. 2022-13177 Filed 6-17-22; 8:45 am]

BILLING CODE 7515-01-P